NATIONAL SCIENCE FOUNDATION

National Science Board Committee on Strategy and Budget

Date and Time: June 18, 2004, 11 a.m.—1 p.m., closed session

Place: The National Science Foundation, Stafford One Building, 4201 Wilson Boulevard, Arlington, VA 22230.

Status: This meeting will be closed to the public.

Matters to be Considered:

Friday, June 18, 2004

Closed Session (11 a.m. to 1 p.m.)

The National Science Board Committee on Strategy and Budget will discuss the NSF FY 2006 budget.

FOR FURTHER INFORMATION CONTACT: Dr. Michael P. Crosby, Executive Officer, NSB, (703) 292-7000, http://www.nsf.gov/nsb.

Michael P. Crosby,
Executive Officer.

[FR Doc. 04-13516 Filed 6-10-04; 8:45 am]

BILLING CODE 7555-01-M